DEPARTMENT OF TRANSPORTATION

Federal Aviation Administration

Notice of Opportunity for Public Comment on Disposal of 4.9 Acres of Airport Land at Southbridge Municipal Airport in Southbridge, MA

AGENCY: Federal Aviation Administration (FAA), DOT.

ACTION: Request for public comments.

SUMMARY: Notice is being given that the FAA is considering a request from the Town of Southbridge, MA, to dispose of a 4.9 acre parcel of airport land. The parcel, located on the southwest side of the airport, is segregated by Barefoot Road and not contiguous with the main airport parcel.

The 4.9 acre parcel is located adjacent to the Town owned landfill and is not suited for aeronautical use as a wetland and Barefoot Road lie between the airport proper and the 4.9 acre parcel. The disposal of this property will have no effect on aviation land or future development opportunities for the airport. An avigation easement will be placed on the land to protect the airport's airspace.

The property has a fair market value of $130,000. The Town installed a new sewer line and pump station to serve the airport terminal building and restaurant at a value of $844,000 and as such, the in-kind services substantiates the fair market value of the land to be transferred to the Town.

DATES: Comments must be received on or before August 10, 2017.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE., Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts, on June 5, 2017.
Mary T. Walsh,
Manager, ANE-600.

[FR Doc. 2017-14520 Filed 7-10-17; 8:45 am]

BILLING CODE 4910-13-P